NUCLEAR REGULATORY COMMISSION

[Docket No. 50-133]

Environmental Assessment and Finding of No Significant Impact Related to Issuance of License Amendment for the Humboldt Bay Power Plant Unit 3 License DPR-007, Humboldt, CA

AGENCY: U.S. Nuclear Regulatory Commission.

ACTION: Environmental assessment and finding of no significant impact.

FOR FURTHER INFORMATION CONTACT: John Hickman, Division of Waste Management and Environmental Protection, Office of Federal and State Materials and Environmental Management Programs, U.S. Nuclear Regulatory Commission, Mail Stop: T7E18, Washington, DC 20555-00001. Telephone: (301) 415-3017; e-mail: jbh@nrc.gov.

SUPPLEMENTARY INFORMATION:

I. Introduction

The U.S. Nuclear Regulatory Commission (NRC) is considering a request, dated December 20, 2006, by the Pacific Gas and Electric Company (PGE or the Licensee), to approve an amendment to Facility Operating License No. DPR-7 that would revise License Condition 2.B.3 to allow the receipt, possession, and use of byproduct, source, or special nuclear material without restriction to amount or atomic number, for sample analysis or instrument calibration or associated with radioactive apparatus or components.

II. Environmental Assessment

Background

Humboldt Bay Power Plant (HBPP) was permanently shut down in July 1976, and until recently was in safe storage condition (SAFSTOR). SAFSTOR is the decommissioning method in which a nuclear facility is placed and maintained in a condition that allows the safe storage of radioactive components of the nuclear plant and subsequent decontamination to levels that permit license termination. A Decommissioning Plan (DP) was approved in July 1988. Subsequent to the 1996 License Termination rule, the licensee converted its DP into its Defueled Safety Analysis Report which is updated every two years. A Post Shutdown Decommissioning Activities Report was issued by the licensee in February 1998. The licensee is now engaged in some incremental decommissioning activities. In December 2003, PG&E formally submitted a license application to the U.S. Nuclear Regulatory Commission (NRC) for approval of a dry-cask Independent Spent Fuel Storage Installation (ISFSI) at the Humboldt Bay site. A license and safety evaluation report for the Humboldt Bay ISFSI were issued on November 17, 2005. PG&E plans to begin active decommissioning of the facility in 2007.

This Environmental Assessment (EA) has been developed in accordance with the requirements of 10 CFR Part 51.21.

Proposed Action

The change proposed by this amendment will replace the current license condition 2.B.3© which addresses the receipt, possession, and use of byproduct materials with one which allows the receipt, possession, and use of byproduct, source, or special nuclear material without restriction to chemical or physical form or atomic number, for sample analysis or instrument calibration or associated with radioactive apparatus or components. The proposed action is contained in the licensee's application dated December 20, 2006.

Need for Proposed Action

The current license condition was included in the license that was issued by the NRC when HBPP entered the possess-but-not-operate SAFSTOR phase. The license, including License Condition 2.B.3(c), was proposed by PG&E on July 30, 1984, and approved and issued by the NRC on July 16, 1985, as Amendment No. 19 to the facility license. License Condition 2.B.3(c) was established based on the byproduct materials onsite at the time and not based on any safety issue. The licensee has now begun preparations for transfer of the spent fuel from the spent fuel pool to an onsite Independent Spent Fuel Storage Installation and for active decommissioning. Offsite equipment will need to be received to perform these activities. However, review of potential equipment has revealed that some would be unsuitable due to radiological composition which contains atomic numbers not allowed by the current license condition.

Environmental Impacts of the Proposed Action

The NRC has completed its evaluation of the proposed amendments to the License and concludes the changes provide a minor revision of the existing provision for the receipt, possession, and use of special nuclear, source, and byproduct materials. The revised license condition is similar to the license condition currently in place for multiple decommissioning and operating nuclear power facilities. The NRC evaluated the safety impacts of the proposed changes and determined that the changes proposed by this license amendment request will provide reasonable assurance that the applicable radiation protection requirements of 10 CFR parts 20, 30, 40, and 70 will be met.

The NRC has evaluated the change and determined that the revised license condition will not significantly change the types or quantities of special nuclear, source, and byproduct materials the license may receive, possess, or use and would therefore have no significant impacts to the environment.

Due to the limited nature of the amendment which will not significantly change the licensed activities on site, the proposed action does not have a potential to affect any historic sites, would not increase the probability or consequences of accidents, would not change the types of effluents that may be released offsite, and would not increase occupation or public radiation exposure.

Alternatives to the Proposed Action

The alternative to the proposed action would be to deny the request. Denial of this amendment request would have the same environmental impact as the proposed action.

Agencies and Persons Consulted

This EA was prepared by John B. Hickman, Project Manager, Decommissioning Directorate, Division of Waste Management and Environmental Protection (DWMEP). NRC staff determined that the proposed action is not a major decommissioning activity and will not affect listed or proposed endangered species, nor critical habitat. Therefore, no further consultation is required under Section 7 of the Endangered Species Act. Likewise, NRC staff determined that the proposed action is not the type of activity that has the potential to cause previously unconsidered effects on historic properties, as consultation for site decommissioning has been conducted previously. There are no additional impacts to historic properties associated with the disposal method and location for demolition debris. Therefore, no consultation is required under Section 106 of the National Historic Preservation Act. The NRC discussed the proposed action with the State of California Radiologic Health Branch. The state official had no comments.

III. Finding of No Significant Impact

On the basis of the environmental assessment, the NRC concludes that the proposed action will not have a significant effect on the quality of the human environment. Accordingly, preparation of an environmental impact statement for the proposed action is not warranted.

IV. Further Information

For further details with respect to the proposed action, see the licensee's letter dated December 20, 2006. (ADAMS Accession No. ML063560061) The NRC Public Documents Room is located at NRC Headquarters in Rockville, MD, and can be contacted at (800) 397-4209. Documents may be examined, and/or copied for a fee, at the NRC's Public Document Room (PDR), located at One White Flint North, 11555 Rockville Pike (first floor), Rockville, Maryland. Publicly available records will be accessible electronically from the Agencywide Documents Access and Management System's (ADAMS) Public Library component on the NRC Web site, http://www.nrc.gov (the Public Electronic Reading Room). Persons who do not have access to ADAMS or who encounter problems in accessing the documents located in ADAMS should contact the NRC PDR Reference staff by telephone at 1-800-397-4209, or 301-415-4737, or by e-mail at pdr@nrc.gov.

Dated at Rockville, Maryland, this 5th day of April, 2007.
For the Nuclear Regulatory Commission.
Keith I. McConnell,
Deputy Director, Decommissioning and Uranium Recovery Licensing Directorate, Division of Waste Management and Environmental Protection, Office of Federal and State Materials and Environmental Management Programs.

[FR Doc. E7-7074 Filed 4-12-07; 8:45 am]

BILLING CODE 7590-01-P